DEPARTMENT OF HOUSING AND URBAN DEVELOPMENT

[Docket No. FR-7092-N-06]

Privacy Act of 1974; System of Records

AGENCY: Office of Public Indian Housing, HUD.

ACTION: Notice of a rescindment of a system of records.

SUMMARY: Pursuant to the provisions of the Privacy Act of 1974, as amended, the Department of the Housing and Urban Development (HUD), the Office of Public Indian Housing, is issuing a public notice of its intent to rescind the Grants Interface Management System (GIMS) because the system was decommissioned by the Office of Chief Information Officer in 2022.

DATES: Comments will be accepted on or before February 9, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Grants Interface Management System (GIMS) was created to receive grant applications from the Grants.gov portal. HUD used this system as the repository for the electronic application received. Paper Records were typically stored in locked cabinets and limited to those personnel who service the records. Records are no longer maintained by HUD and have run the record retention period. The records were wiped from the system.

SYSTEM NAME AND NUMBER:

Grants Interface Management System (GIMS), P017.

HISTORY:

The previously published notice in the Federal Register [Docket Number FR-5130-N-09], on August 2, 2007, 72 FR 42423.

Ladonne White,
Chief Privacy Officer, Office of Administration.

[FR Doc. 2024-00276 Filed 1-9-24; 8:45 am]

BILLING CODE 4210-67-P